DEPARTMENT OF DEFENSE

Department of the Air Force

[Docket ID USAF-2014-0029]

Privacy Act of 1974; System of Records

AGENCY: Department of the Air Force, DoD.

ACTION: Notice to delete five Systems of Records.

SUMMARY: The Department of the Air Force is deleting five systems of records notices in its existing inventory of record systems subject to the Privacy Act of 1974, as amended. The system notices are entitled “F071 AF OSI C, Criminal Records”; “F036 AFOSI C, Internal Personnel Data System”; “F036 AFOSI A, Career Development Folder”; “F036 AFOSI D, Air Force Special Investigations Academy Individual Academic Records”; and “F036 AFOSI B, Informational Personnel Records”.

DATES: Comments will be accepted on or before October 27, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air, Air Force Privacy Act Office, Office of Warfighting Integration and Chief Information officer, ATTN: SAF/CIO A6, 1800 Air Force Pentagon, Washington, DC 20330-1800, or by phone at (571) 256-2515.

SUPPLEMENTARY INFORMATION: The Department of the Air Force systems of records notices subject to the Privacy Act of 1974, as amended, has been published in the Federal Register and are available from the address in FOR FURTHER INFORMATION CONTACT or at the Defense Privacy and Civil Liberties Web site at http://dpclo.defense.gov/. The Department of the Air Force proposes to delete five systems of records notices from its inventory of record systems subject to the Privacy Act of 1974 as amended. The proposed deletions are not within the purview of subsection (r) of the Privacy Act of 1974, as amended, which requires the submission of a new or altered system report.

Dated: September 22, 2014.
Aaron Siegel,
Alternate OSD Federal Register Liaison Officer, Department of Defense.

Deletion:

F071 AF OSI C

System name:

Criminal Records (June 11, 1997, 62 FR 31793)

Reason:

This is a duplicate system of records; active records are covered under SORN F071 AF OSI D, Investigative Information Management System (I2MS) (August 28, 2006, 71 FR 50894). Duplicate paper copies at HQ AFOSI were destroyed by pulping, macerating, or burning. Therefore, SORN F071 AF OSI C, Criminal Records (June 11, 1997, 62 FR 31793) can be deleted.

Deletion:

F036 AFOSI C

System name:

Internal Personnel Data System (June 11, 1997, 62 FR 31793)

Reason:

This system no longer exists. There is no data available as to when the system became obsolete. All records have been properly destroyed by tearing into pieces, shredding, pulping, macerating, or burning. Therefore, SORN F036 AFOSI C, Internal Personnel Data System (June 11, 1997, 62 FR 31793) can be deleted.

Deletion:

F036 AFOSI A

System name:

Career Development Folder (June 11, 1997, 62 FR 31793)

Reason:

This is a duplicate system of records; active records are covered under SORN F036 AF PC C, Military Personnel Records System (October 13, 2000, 65 FR 60916). Duplicate paper copies at HQ AFOSI were destroyed by tearing into pieces, shredding, pulping, macerating, or burning. Therefore, SORN F036 AFOSI A, Career Development Folder (June 11, 1997, 62 FR 31793) can be deleted.

Deletion:

F036 AFOSI D

System name:

Air Force Special Investigations Academy Individual Academic Records (June 11, 1997, 62 FR 31793)

Reason:

This is a duplicate system of records; active records are covered under SORN F036 AFOSI E, Command Learning Management System (October 21, 2010, 75 FR 65007).

Duplicate paper copies at HQ AFOSI were destroyed by tearing into pieces, shredding, pulping, macerating, or burning. Therefore, SORN F036 AFOSI D, Air Force Special Investigations Academy Individual Academic Records (June 11, 1997, 62 FR 31793) can be deleted.

Deletion:

F036 AFOSI B

System name:

Informational Personnel Records (June 11, 1997, 62 FR 31793)

Reason:

This system no longer exists. There is no data available as to when the system became obsolete. All records have been properly destroyed by tearing into pieces, shredding, pulping, macerating, or burning. Therefore, SORN F036 AFOSI B, Informational Personnel Records (June 11, 1997, 62 FR 31793) can be deleted.

[FR Doc. 2014-22843 Filed 9-24-14; 8:45 am]

BILLING CODE 5001-06-P